DEPARTMENT OF LABOR

Employment and Training Administration

[TA-W-53,154]

International Stone Products, Inc., Barre, VT; Notice of Termination of Investigation

Pursuant to section 221 of the Trade Act of 1974, as amended, an investigation was initiated on October 6, 2003, in response to a petition filed by the United Steelworkers of America, Local 4 on behalf of workers of International Stone Products, Inc., Barre, Vermont. The workers produced granite memorials.

The petitioning group of workers is covered by an active certification issued on October 24, 2003 and which remains in effect (TA-W-53,261). Consequently, further investigation in this case would serve no purpose, and the investigation has been terminated.

Signed in Washington, DC, this 31st day of October, 2003.
Linda G. Poole,
Certifying Officer, Division of Trade Adjustment Assistance.

[FR Doc. 03-29540 Filed 11-25-03; 8:45 am]

BILLING CODE 4510-30-P